DEPARTMENT OF ENERGY

Federal Energy Regulatory Commission

[Docket No. RP07-559-000]

Transcontinental Gas Pipe Line Corporation; Notice of Request for Waiver of FERC Gas Tariff

August 9, 2007.

Take notice that on August 3, 2007, Transcontinental Gas Pipe Line Corporation (Transco) filed with the Federal Energy Regulatory Commission a request for waiver of section 55.2 of the general terms & conditions of Transco's FERC Gas Tariff to the extent necessary to: (i) Allow Transco to reserve capacity on Transco's Mobile Bay Lateral to be used for the proposed Pascagoula Expansion Project for up to 30 months prior to Transco filing an application with the Commission for certificate approval of the Project; and (ii) allow any shippers subscribing to the reserved capacity during the period of time between the date that the capacity is reserved and the in-service date of the Project to have a right of first refusal to the subscribed capacity during such interim period, all as more fully described in Transco's request for waiver.

Any person desiring to intervene or to protest this filing must file in accordance with Rules 211 and 214 of the Commission's Rules of Practices and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of § 154.210 of the Commission's regulations (18 CFR 154.210). Anyone filing an intervention or protest must serve a copy of that document on the Applicant. Anyone filing an intervention or protest on or before the intervention or protest date need not serve motions to intervene or protests on persons other than the Applicant.

The Commission encourages electronic submission of protests in lieu of paper using the “eFiling” link at http://www.ferc.gov. Persons unable to file electronically should submit an original and 14 copies of the protest to the Federal Energy Regulatory Commission, 888 First Street, NE., Washington, DC 20426.

The filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-16041 Filed 8-15-07; 8:45 am]

BILLING CODE 6717-01-P